DEPARTMENT OF THE INTERIOR

Fish and Wildlife Service

Aquatic Nuisance Species Task Force Meeting

AGENCY: Fish and Wildlife Service, Interior.

ACTION: Notice of meeting.

SUMMARY: This notice announces a meeting of the Aquatic Nuisance Species (ANS) Task Force. The meeting topics are identified in the SUPPLEMENTARY INFORMATION section.

DATES: The Aquatic Nuisance Species Task Force will meet from 8 a.m. to 5:30 p.m. on Tuesday, November 4, and from 8 a.m. to 5 p.m. on Wednesday, November 5, 2003.

ADDRESSES: The ANS Task Force meeting will be held at the Holiday Inn, 4610 North Fairfax Drive, Arlington, Virginia 22203. Phone 703-243-9800.

FOR FURTHER INFORMATION CONTACT: Sharon Gross, Executive Secretary, Aquatic Nuisance Species Task Force, at 703-358-2308, or by e-mail, at sharon_gross@fws.gov

SUPPLEMENTARY INFORMATION: Pursuant to section 10(a)(2) of the Federal Advisory Committee Act (5 U.S.C. App. I), this notice announces a meeting of the Aquatic Nuisance Species Task Force. The Task Force was established by the Nonindigenous Aquatic Nuisance Prevention and Control Act of 1990.

Topics to be covered during the ANS Task Force meeting include: an update of activities from each of the Task Force's regional panels; status and updates from several other Task Force committees and working groups including the Prevention Committee, the Asian Carp working group, and the New Zealand mud snail working group, review of State ANS Management Plans from Hawaii, Indiana and Wisconsin; an update on ballast water management activities; an update on the activities of the National Invasive Species Council; a discussion on the National Aquatic Invasive Species Act; and other topics.

Minutes of the meeting will be maintained by the Executive Secretary, Aquatic Nuisance Species Task Force, Suite 810, 4401 North Fairfax Drive, Arlington, Virginia 22203-1622, and will be available for public inspection during regular business hours, Monday through Friday.

Dated: October 2, 2003.
Mamie Parker,
Co-chair, Aquatic Nuisance Species Task Force, Assistant Director—Fisheries and Habitat Conservation.

[FR Doc. 03-25647 Filed 10-8-03; 8:45 am]

BILLING CODE 4310-55-M